DEPARTMENT OF THE INTERIOR

National Park Service

[NPS-WASO-NAGPRA-NPS0033639; PPWOCRADN0-PCU00RP14.R50000]

Notice of Inventory Completion: U.S. Department of the Interior, Bureau of Indian Affairs, Washington, DC

AGENCY: National Park Service, Interior.

ACTION: Notice.

SUMMARY: The U.S. Department of the Interior, Bureau of Indian Affairs has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Bureau of Indian Affairs. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and funerary objects should submit a written request with information in support of the request to the Bureau of Indian Affairs at the address in this notice by April 29, 2022.

FOR FURTHER INFORMATION CONTACT: Dr. B.J. Howerton, Bureau of Indian Affairs, 1001 Indian School Road NW, Albuquerque, NM 87114, telephone (505) 563-3013, email BJ.Howerton@bia.gov.

SUPPLEMENTARY INFORMATION: Notice is here given in accordance with the Native American Graves Protection and Repatriation Act (NAGPRA), 25 U.S.C. 3003, of the completion of an inventory of human remains and associated funerary objects under the control of the U.S. Department of the Interior, Bureau of Indian Affairs, Washington, DC. The human remains and associated funerary objects were removed from Coconino County, AZ.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Bureau of Indian Affairs professional staff in consultation with representatives of the Navajo Nation, Arizona, New Mexico, & Utah.

History and Description of the Remains

On May 17, 1971, human remains representing, at minimum, one individual were removed from a historic Navajo site (NA11021) in Coconino County, AZ. The human remains were removed from a burial during authorized excavations prior to construction of a railroad between Black Mesa and Page, AZ, that crossed tribal trust lands of the Navajo Nation, Arizona. New Mexico, & Utah. The human remains and associated funerary objects were first placed in the custody of the Museum of Northern Arizona in Flagstaff, AZ, in 1971. Subsequently, they were placed in the custody of the Navajo Nation Museum in Window Rock, AZ. In 2019, custody of the remains and funerary objects reverted to the Museum of Northern Arizona. The human remains belong to an adult female. No known individual was identified. The two associated funerary objects are one metal spoon and one metal can with a lid.

The burial was within a brush shade structure (chaha'oh) typical of Navajo architecture. Ethnographic interviews indicated the burial belonged to a Navajo person and was dated ca. 1920. The burial's location away from any habitation and the presence of a shovel near the burial structure are typical of Navajo burial practices.

Determinations Made by the U.S. Department of the Interior, Bureau of Indian Affairs

Officials of the U.S. Department of the Interior, Bureau of Indian Affairs have determined that:

• Pursuant to 25 U.S.C. 3001(9), the human remains described in this notice represent the physical remains of one individual of Native American ancestry.

• Pursuant to 25 U.S.C. 3001(3)(A), the two objects described in this notice are reasonably believed to have been placed with or near individual human remains at the time of death or later as part of the death rite or ceremony.

• Pursuant to 25 U.S.C. 3001(2), there is a relationship of shared group identity that can be reasonably traced between the Native American human remains and associated funerary objects and the Navajo Nation, Arizona, New Mexico, & Utah.

Additional Requestors and Disposition

Lineal descendants or representatives of any Indian Tribe or Native Hawaiian organization not identified in this notice that wish to request transfer of control of these human remains and associated funerary objects should submit a written request with information in support of the request to Dr. B.J. Howerton, Bureau of Indian Affairs, 1001 Indian School Road NW, Albuquerque, NM 87114, telephone (505) 563-3013, email BJ.Howerton@bia.gov, by April 29, 2022. After that date, if no additional requestors have come forward, transfer of control of the human remains and associated funerary objects to the Navajo Nation, Arizona, New Mexico, & Utah may proceed.

The Bureau of Indian Affair is responsible for notifying the Navajo Nation, Arizona, New Mexico, & Utah that this notice has been published.

Dated: March 23, 2022.
Melanie O'Brien,
Manager, National NAGPRA Program.

[FR Doc. 2022-06664 Filed 3-29-22; 8:45 am]

BILLING CODE 4312-52-P